DEPARTMENT OF HOMELAND SECURITY

Coast Guard

46 CFR Part 401

[Docket No. USCG-2024-0406]

RIN 1625-AC94

Great Lakes Pilotage Rates—2025 Annual Review; Correction

AGENCY: Coast Guard, DHS.

ACTION: Notice of proposed rulemaking; correction.

SUMMARY: The Coast Guard published a document in the Federal Register of August 28, 2024, extending the comment period of the Great Lakes Pilotage Rates—2025 Annual Review. The document contained an incorrect date for a meeting.

FOR FURTHER INFORMATION CONTACT: For information about this document, call or email Mr. Brian Rogers, Commandant, Office of Waterways and Ocean Policy—Great Lakes Pilotage Division (CG-WWM-2), Coast Guard; telephone 410-360-9260, email Brian.Rogers@uscg.mil.

SUPPLEMENTARY INFORMATION:

Correction

In the Federal Register of August 28, 2024 (89 FR 68847), in FR Document 2024-19089, the following corrections are made:

1. On page 68847, in the third column, in the first line of the paragraph in the Summary, the date “September 6, 2024” is corrected to read “September 10, 2024”.

2. On page 68848, in the second column, in the first line of the second paragraph, the date “September 6, 2024” is corrected to read “September 10, 2024”.

Dated: August 29, 2024.
T. Haviland,
Director, Great Lakes Pilotage, U.S. Coast Guard.

[FR Doc. 2024-19840 Filed 9-3-24; 8:45 am]

BILLING CODE P